INTERNATIONAL TRADE COMMISSION

[Investigation Nos. 731-TA-1662-1663 (Final)]

Glass Wine Bottles From China and Mexico; Supplemental Schedule for the Final Phase of Antidumping Duty Investigations

AGENCY: United States International Trade Commission.

ACTION: Notice.

DATES: January 2, 2025.

FOR FURTHER INFORMATION CONTACT: Charles Cummings ((202) 708-1666), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective June 3, 2024, the Commission established a general schedule for the conduct of the final phase of its countervailing duty investigation on glass wine bottles from China (89 FR 49901, June 12, 2024), following a preliminary determination by the U.S. Department of Commerce (“Commerce”) that imports of glass wine bottles from China were being subsidized by the government of China (89 FR 47533, June 3, 2024). Notice of the scheduling of the final phase of the Commission's investigations and of a public hearing held in connection therewith was given by posting copies of the notice in the Office of the Secretary, U.S. International Trade Commission, Washington, DC, and by publishing the notice in the Federal Register on June 12, 2024 (89 FR 49901). The Commission conducted its hearing on August 14, 2024. All persons who requested the opportunity were permitted to participate.

Commerce has issued a final affirmative countervailing duty determination with respect to glass wine bottles from China (89 FR 68395, August 26, 2024). The Commission subsequently issued its final determination that an industry in the United States is not materially injured or threatened with material injury by reason of imports of glass wine bottles from China provided for in subheading 7010.90.50 of the Harmonized Tariff Schedule of the United States (“HTSUS”) that have been found by Commerce to be subsidized by the government of China (89 FR 83515, October 16, 2024).

On December 10, 2024, counsel for the petitioner filed with Commerce a request to withdraw its petition regarding imports of glass wine bottles from Chile. On December 30, 2024, Commerce published notice in the Federal Register of the termination of its subject investigation concerning glass wine bottles from Chile (89 FR 106425) and the Commission subsequently terminated its antidumping duty investigation concerning glass wine bottles from Chile (90 FR 1543, January 8, 2025).

On January 2, 2025, Commerce issued final affirmative antidumping duty determinations with respect to imports of glass wine bottles from China (90 FR 76) and Mexico (90 FR 79). Accordingly, the Commission currently is issuing a supplemental schedule for its antidumping duty investigations on imports of glass wine bottles from China and Mexico.

On January 6, 2025, counsel for the petitioner filed with the Commission a request pursuant to section 201.12 of the Commission's rules that the Commission permit all interested parties to provide full, 15-page final comments in the remaining proceedings involving China and Mexico. On January 7, 2025, the Commission determined to grant this request and also to alter the schedule for filing comments, given the posture of these investigations. Accordingly, the supplemental schedule is as follows: all parties shall file their 15-page affirmative final comments by close of business on January 13, 2025. Reply comments, not to exceed 10 pages, are to be filed by close of business on January 17, 2025. Affirmative final comments may address only Commerce's final antidumping determinations regarding imports of glass wine bottles from China and Mexico and the significance of Commerce's termination of the antidumping duty investigation of glass wine bottles from Chile. Reply comments should be limited to addressing only those arguments raised in other parties' affirmative final comments. All comments should be in accordance with 19 U.S.C. 1677(7)(G)(iii) and no new factual information may be included. The supplemental staff report in the final phase of the current investigations will be placed in the nonpublic record on January 28, 2025, and a public version will be issued thereafter.

For further information concerning this proceeding see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Please note the Secretary's Office will accept only electronic filings during this time. Filings must be made through the Commission's Electronic Document Information System (EDIS, https://edis.usitc.gov.) No in-person paper-based filings or paper copies of any electronic filings will be accepted until further notice.

Authority: This proceeding is being conducted under authority of title VII of the Tariff Act of 1930; this notice is published pursuant to section 207.21 of the Commission's rules.

By order of the Commission.
Issued: January 8, 2025.
Lisa Barton,
Secretary to the Commission.

[FR Doc. 2025-00586 Filed 1-13-25; 8:45 am]

BILLING CODE 7020-02-P